DEPARTMENT OF THE INTERIOR

Bureau of Indian Affairs

Proposed Information Collection Under the Paperwork Reduction Act; Comment Request

AGENCY: Bureau of Indian Education, Interior.

ACTION: Notice of proposed renewal of information collection.

SUMMARY: The Bureau of Indian Education (BIE), in accordance with the Paperwork Reduction Act, is proposing to renew the No Child Left Behind Act Regulations, 25 CFR parts 30, 37, 39, 42, 44 and 47, OMB Control Number 1076-0163.

DATES: Submit comments on or before July 6, 2007 for best consideration.

ADDRESSES: Please send comments to Mr. Thomas M. Dowd, Director, Bureau of Indian Education, 1849 C Street, NW., Mail Stop 3609-MIB, Washington, DC 20240, facsimile number (202) 208-3312.

FOR FURTHER INFORMATION CONTACT: Dr. James Martin, Chief, Division of Planning and Research, Bureau of Indian Education, 1849 C Street, NW., Mail Stop 3609-MIB, Washington, DC 20240, Telephone: (202) 208-6123, Facsimile: (202) 208-3312 or by e-mail at jmartin1@bia.edu.

SUPPLEMENTARY INFORMATION: Public Law 107-110, the No Child Left Behind (NCLB) Act of January 8, 2001, requires all schools, including Bureau of Indian Education funded schools, to ensure that all children have a fair, equal, and significant opportunity to obtain a high-quality education and reach, at a minimum, proficiency on challenging academic achievement standards and assessments. The BIE is required to monitor programs, gather data, and complete reports for the U.S. Department of Education. To achieve these results, schools must prepare required documentation such as the Annual Report, the School Report Card, Section 1114 Plans, financial budgets, school improvement plans, compliance action plans as a result of monitoring, Title II, Part A reports on highly qualified staff, Title IV, Part A, Safe and Drug Free Schools and Communities reports, competitive sub-grant reports, Indian School Equalization Programs (ISEP) reports, the Native American Student Information System (NASIS) reports, and transportation reports.

Request for Comments

The Bureau of Indian Education requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request and an individual need not respond to a collection of information unless it has a valid OMB Control Number. It is our policy to make all comments available to the public for review at the location listed in the ADDRESSES section, room 3609, during the hours of 8 a.m. to 5 p.m. EST, Monday through Friday, except legal holidays. If you wish to have your name and/or address withheld, you must state this prominently at the beginning of your comments. We will honor your request according to the requirements of the law. All comments from organizations or representatives will be available for review. We may withhold comments from review for other reasons.

OMB Control Number: 1076-0163.

Type of review: Renewal.

Title: No Child Left Behind Regulations, 25 CFR parts 30, 37, 39, 42, 44, and 47.

Brief Description of collection: This collection is mandatory according to statutory regulations, and the benefit to the respondents is continued supplementary program funding.

Respondents: Bureau-funded schools, tribal governing bodies and school boards are the respondents, and submission is mandatory.

Number of Respondents: 184 Bureau-funded schools.

Estimated Time per Response: The range of time can vary from 1 hour to 48 hours for one item.

Frequency of Response: Annually and sometimes quarterly.

Total Annual Hourly Burden to Respondents: 706 (number of responses) × 30 (hourly burden per response) = 21,180 total annual hours of burden.

Dated: April 27, 2007.
Carl J. Artman,
Assistant Secretary—Indian Affairs.

[FR Doc. E7-8659 Filed 5-4-07; 8:45 am]

BILLING CODE 4310-XN-P